DEPARTMENT OF HEALTH AND HUMAN SERVICES

Health Resources and Services Administration

Notice of Availability of Health Center Program Scope of Project and Telehealth Policy Information Notice

AGENCY: Health Resources and Services Administration (HRSA), Department of Health and Human Services (HHS).

ACTION: Request for public comment on Draft Health Center Program Scope of Project and Telehealth Policy Information Notice.

SUMMARY: HRSA is inviting public comment on the Draft Health Center Program Scope of Project and Telehealth Policy Information Notice (Telehealth PIN). The purpose of the Telehealth PIN is to establish policy for health centers that provide services via telehealth within the HRSA-approved scope of project. The Telehealth PIN also describes considerations and criteria health centers must meet for providing services via telehealth within the Health Center Program scope of project.

The Health Center Program is authorized by section 330 of the Public Health Service Act, 42 U.S.C. 254b. HRSA provides federal award funding to health centers to deliver required primary care and additional health services to medically underserved areas and populations. HRSA also certifies entities that it has determined to meet section 330 requirements as Health Center Program look-alikes. Health centers provide required primary care and additional health services to residents of the area served by the health center.

Each health center is responsible for maintaining its operations, including developing and implementing its own operating procedures for providing health services through telehealth, in compliance with all Health Center Program requirements and all other applicable federal, state, and local laws and regulations.¹

¹ 42 CFR 51c.304(d)(3)(v).

Health centers are increasingly using telehealth as a means of delivering required and additional services to health center patients. Providing health care via telehealth ² can increase patient access and improve clinical outcomes, quality of care, continuity of care, and reduce the need for hospitalization. Within the context of the Health Center Program scope of project, telehealth is not a service or a service delivery method requiring specific HRSA approval; rather, telehealth is a mechanism or means for delivering a health service(s) to health center patients using telecommunications technology or equipment.

² HRSA defines telehealth as the use of electronic information and telecommunication technologies to support long-distance clinical health care, patient and professional health-related education, health administration, and public health.

DATES: Submit comments no later than November 14, 2022.

ADDRESSES: The PIN is available at the Scope of Project and Telehealth PIN Public Comments web page. Written comments should be submitted through the HRSA Bureau of Primary Health Care Contact Form (https://hrsa.force.com/feedback/s/policy-information-notice), by November 14, 2022.

FOR FURTHER INFORMATION CONTACT: Jennifer Joseph, Director, Office of Policy and Program Development, Bureau of Primary Health Care, HRSA, 5600 Fishers Lane, Rockville, Maryland 20857; email: jjoseph@hrsa.gov; telephone: 301-594-4300; fax: 301-594-4997.

SUPPLEMENTARY INFORMATION: HRSA provides grants to eligible applicants under section 330 of the PHS Act, as amended (42 U.S.C. 254b), to support the delivery of preventive and primary care services to the nation's underserved individuals and families. HRSA also certifies eligible applicants under the Health Center Look-Alike Program (see sections 1861(aa)(4)(B) and 1905(l)(2)(B) of the Social Security Act). Look-alikes do not receive Health Center Program funding but must meet the Health Center Program statutory and regulatory requirements. Nearly 1,400 Health Center Program-funded health centers and approximately 100 Health Center Program look-alike organizations collectively operate over 14,000 service delivery sites that provide care to over 30 million patients in every U.S. state, the District of Columbia, Puerto Rico, the U.S. Virgin Islands, and the Pacific Basin. Note that for the purposes of this document, the term “health center” refers to entities that receive a federal award under section 330 of the PHS Act, as amended, as well as subrecipients and organizations designated as look-alikes, unless otherwise stated.

Section A of the Telehealth PIN includes considerations for health centers delivering services via telehealth within the HRSA-approved scope of project. Each health center is responsible for maintaining its operations, including developing and implementing its own operating procedures for telehealth, in compliance with all Health Center Program requirements and all other applicable federal, state, and local laws and regulations. Among other considerations, health centers using telehealth to deliver in-scope services to health center patients are responsible for addressing the considerations described in the policy.

Section B of the Telehealth PIN includes criteria for health centers delivering services via telehealth within the HRSA-approved scope of project. PIN 2008-01: Defining Scope of Project and Policy for Requesting Changes provides the parameters of what may be included in a health center's scope of project and how to accurately document a health center's scope of project. Health centers may deliver in-scope services via telehealth to individuals who have previously presented for care at a health center site and to individuals who have not previously presented for care at a health center site. Services delivered via telehealth generally would be within the scope of the health center project if all of the criteria are met as described in the policy.

Diana Espinosa,
Deputy Administrator.

[FR Doc. 2022-19933 Filed 9-14-22; 8:45 am]

BILLING CODE 4165-15-P